DEPARTMENT OF JUSTICE

Antitrust Division

Notice Pursuant to the National Cooperative Research and Production Act of 1993—Electronic Healthcare Network Accreditation Commission

Notice is hereby given that, on March 8, 2005, pursuant to section 6(a) of the National Cooperative Research and Production Act of 1993, 15 U.S.C. 4301 et seq. (“the Act”), Electronic Healthcare Network Accreditation Commission (“EHNAC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Electronic Healthcare Network Accreditation Commission, Farmington, CT. The nature and scope of EHNAC's standards development activities are: to set standards for electronic health care industry participants to facilitate the electronic transmission of bills and payments in a manner consistent with all federal laws and regulations. EHNAC establishes criteria to determine whether individual electronic industry participants are compliant with industry standards, and it provides accreditation to electronic health care industry participants to certify that such participants are compliant with applicable standards. The standards promote excellence, innovation, cooperation, open competition and timely regulatory compliance within the health care industry in order to improve the quality of healthcare delivery, to protect the security and privacy of patient-identifiable information and achieve administrative simplification and cost savings.

Dorothy B. Fountain,
Deputy Director of Operations, Antitrust Division.

[FR Doc. 05-9528 Filed 5-11-05; 8:45 am]

BILLING CODE 4410-11-M